DEPARTMENT OF THE INTERIOR

Bureau of Land Management

[NM-070-1430-ES; NMNM-108598]

Notice of Realty Action: Non-Competitive Direct Sale of Public Lands in San Juan County, NM

AGENCY: Bureau of Land Management, Interior.

ACTION: Notice of realty action.

SUMMARY: Lands in San Juan County, New Mexico are being considered for direct sale to San Juan County utilizing non-competitive procedures at the appraised fair market value.

SUPPLEMENTARY INFORMATION: Authority for the sale is Section 203 of the Federal Land Policy and Management Act of 1976 (FLPMA).

The lands are described as follows:

New Mexico Principal Meridian

T. 29 N., R. 12 W.,

Sec. 28: E½NE¼SE¼SW¼SE¼:

The lands contain 1.26 acres, more or less, located south of the San Juan County Fair grounds. This parcel of land, situated in San Juan County, is being considered for a direct sale to San Juan County, the adjacent property owner. The sale price will not be less than the fair market value of $30,000.00. This land is not required for any federal purposes. The sale is consistent with current Bureau planning for this area, and a direct sale to the County would be in the public interest. A sale will settle a trespass and allow expansion of existing rodeo grounds. In the event of a sale, the conveyance will be of surface interests only. Any patent, when issued, will contain the following reservations to the United States:

1. Patent Reservations:

A. All valid existing rights (including rights-of-ways).

B. Reserve a right for the Federal Government to construct ditches and canals.

C. Reserve all minerals to the Federal Government.

On October 14, 2004, the public lands described above are segregated from all forms of appropriation under the public land laws, including the mining laws until July 11, 2005. The segregative effect shall terminate as provided by 43 CFR 2711.1-2(d).

Interested parties may submit comments on the proposed sale to the Field Manager, Bureau of Land Management (BLM) Farmington Field Office, 1235 La Plata Highway, Suite A, Farmington, New Mexico 87401 until November 29, 2004. Any Adverse comments will be reviewed by the State Director who may sustain, vacate, or modify this notice of realty action. The BLM may withdraw any land or interest in the land from sale if, in the opinion of the authorized officer, consummation of the sale would not be fully consistent with FLPMA or other applicable laws. The lands will not be sold before December 13, 2004.

Dave Mankiewicz,
Assistant Field Manager, Farmington, New Mexico.

[FR Doc. 04-23127 Filed 10-8-04; 4:19 pm]

BILLING CODE 1430-VB-P